DEPARTMENT OF ENERGY

Federal Energy Regulatory Commission

Combined Notice of Filings #1

March 15, 2007.

Take notice that the Commission received the following electric rate filings.

Docket Numbers: ER98-4652-004.

Applicants: Boralex Stratton Energy, LP.

Description: Boralex Stratton Energy, LP submits FERC Electric Tariff, First Revised Volume 1.

Filed Date: 03/12/2007.

Accession Number: 20070314-0057.

Comment Date: 5 p.m. Eastern Time on Monday, April 02, 2007.

Docket Numbers: ER01-2568-004.

Applicants: Boralex Ashland, LP.

Description: Boralex Ashland, LP submits tariff sheets to FERC Electric Tariff, First Revised Volume 1.

Filed Date: 03/12/2007.

Accession Number: 20070314-0058.

Comment Date: 5 p.m. Eastern Time on Monday, April 02, 2007.

Docket Numbers: ER01-2569-004.

Applicants: Boralex Livermore Falls, LP.

Description: Boralex Livermore Falls, LP submits Revised Original Sheet 1 to FERC Electric Tariff, Revised Original Volume 1 in compliance w/Designation of Electric Rate Schedule Sheets, Order 614.

Filed Date: 03/12/2007.

Accession Number: 20070314-0052.

Comment Date: 5 p.m. Eastern Time on Monday, April 02, 2007.

Docket Numbers: ER02-1175-003.

Applicants: Boralex Fort Fairfield, LP.

Description: Boralex Ft Fairfield, LP submits Revised Original Sheet 1 to FERC Electric Tariff, First Revised Original Volume 1 in compliance w/Designation of Electric Rate Schedule Sheets, Order 614.

Filed Date: 03/12/2007.

Accession Number: 20070314-0053.

Comment Date: 5 p.m. Eastern Time on Monday, April 02, 2007.

Docket Numbers: ER02-2330-046.

Applicants: New England Power Pool.

Description: ISO New England, Inc. submits the eighteenth of the required Standard Market Design Status Report pursuant to the Commission's 9/20/02 Order.

Filed Date: 03/12/2007.

Accession Number: 20070314-0051.

Comment Date: 5 p.m. Eastern Time on Monday, April 02, 2007.

Docket Numbers: ER07-423-001.

Applicants: South Carolina Electric & Gas Company.

Description: South Carolina Electric & Gas Company submits its responses to FERC's 2/9/07 deficiency letter.

Filed Date: 03/12/2007.

Accession Number: 20070314-0059.

Comment Date: 5 p.m. Eastern Time on Monday, April 02, 2007.

Docket Numbers: ER07-606-000.

Applicants: Duke Energy Indiana, Inc.

Description: Duke Energy Indiana, Inc. submits the updated summary schedules for the Transmission and Local Facilities Agreement for the calendar year 2005 w/Wabash Valley Power Association, Inc. etc.

Filed Date: 03/07/2007.

Accession Number: 20070309-0559.

Comment Date: 5 p.m. Eastern Time on Wednesday, March 28, 2007.

Docket Numbers: ER07-615-000.

Applicants: Southern California Edison Company.

Description: Southern California Edison Company submits a Large Generator Interconnection Agreement among Walnut Creek Energy LLC and California Independent System Operator Corporation.

Filed Date: 03/12/2007.

Accession Number: 20070314-0079.

Comment Date: 5 p.m. Eastern Time on Monday, April 02, 2007.

Docket Numbers: ER07-616-000.

Applicants: Carolina Power & Light Company.

Description: Carolina Power & Light Co. dba Progress Energy Carolinas, Inc. submits an amendment to Large Generator Interconnection Agreement to add Appendix N, a dynamic schedule arrangement etc., effective 2/13/07.

Filed Date: 03/12/2007.

Accession Number: 20070314-0080.

Comment Date: 5 p.m. Eastern Time on Monday, April 02, 2007.

Docket Numbers: ER07-617-000.

Applicants: Carolina Power & Light Company.

Description: Carolina Power & Light Co. dba Progress Energy Carolinas, Inc. requests to amend its Large Generator Interconnection Agreement to add Appendix N etc., with an effective date of 2/13/07.

Filed Date: 03/12/2007.

Accession Number: 20070314-0081.

Comment Date: 5 p.m. Eastern Time on Monday, April 02, 2007.

Docket Numbers: ER07-618-000.

Applicants: American Transmission Systems, Inc.

Description: American Transmission Systems, Inc., acting on its own behalf as well as an agent for Ohio Edison Company submits a Construction Agreement, Open Access Transmission Tariff, Service Agreement 353, effective 2/9/07.

Filed Date: 03/12/2007.

Accession Number: 20070314-0060.

Comment Date: 5 p.m. Eastern Time on Monday, April 02, 2007.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-5129 Filed 3-20-07; 8:45 am]

BILLING CODE 6717-01-P